DEPARTMENT OF HOMELAND SECURITY

Coast Guard

33 CFR Part 100

[Docket No. USCG-2019-0524]

Special Local Regulations; Marine Events in the Coast Guard Sector Detroit Captain of the Port Zone

AGENCY: Coast Guard, DHS.

ACTION: Notice of enforcement of regulation.

SUMMARY: The Coast Guard will enforce various special local regulations for annual regattas and marine parades in the Captain of the Port Detroit zone. Enforcement of these regulations is necessary and intended to protect the safety of life on the navigable waters immediately prior to, during, and after these regattas or marine parades. During the enforcement period listed below, the Coast Guard will enforce restrictions upon, and control movement of, vessels in a specified area immediately prior to, during, and after regattas or marine parades.

DATES: The regulation in 33 CFR 100.911, Table 1(7), will be enforced from 8 a.m. on July 12, 2019 through 7 p.m. on July 14, 2019. In the case of inclement weather on any of the previous dates, this regulation will also be enforced from 8 a.m. through 7 p.m. on July 15, 2019.

FOR FURTHER INFORMATION CONTACT: If you have questions on this notice of enforcement, call or email Tracy Girard, Prevention Department, telephone (313) 568-9564, email Tracy.M.Girard@uscg.mil.

SUPPLEMENTARY INFORMATION: The Coast Guard will enforce the following special local regulations listed in 33 CFR part 100, Safety of Life on Navigable Waters, on the following dates and times:

(1) Bay City River Roar (formerly known as Grand Prix), Bay City, MI. The special local regulation listed in 33 CFR 100.911, Table 1(7), will be enforced from 8 a.m. on July 12, 2019 through 7 p.m. on July 14, 2019. In the case of inclement weather on any of the previous dates, this safety zone will be enforced from 8 a.m. through 7 p.m. on July 15, 2019.

In accordance with the general regulations in 33 CFR 100.35, the Coast Guard will patrol the regatta area under the direction of a designated Coast Guard patrol commander (PATCOM). The PATCOM may be contacted on Channel 16 (156.8 MHz) by the call sign “Coast Guard Patrol Commander.”

Entry into, transiting, or anchoring within these regulated areas is prohibited unless authorized by the PATCOM. The PATCOM may restrict vessel operation within the regulated area to vessels having particular operating characteristics.

Vessels permitted to enter this regulated area must operate at a no-wake speed and in a manner that will not endanger race participants or any other craft.

The PATCOM may direct the anchoring, mooring, or movement of any vessel within this regulated area. A succession of sharp, short signals by whistle or horn from vessels patrolling the area under the direction of the PATCOM shall serve as a signal to stop. Vessels so signaled shall stop and shall comply with the orders of the PATCOM. Failure to do so may result in expulsion from the area, a Notice of Violation for failure to comply, or both.

If it is deemed necessary for the protection of life and property, the PATCOM may terminate the marine event or the operation of any vessel within the regulated area.

Under the provisions of 33 CFR 100.928, vessels transiting within the regulated area shall travel at a no-wake speed and remain vigilant for event participants and safety craft. Additionally, vessels shall yield right-of-way for event participants and event safety craft and shall follow directions given by the Coast Guard's on-scene representative or by event representatives during the event.

The “on-scene representative” of the Captain of the Port Detroit is any Coast Guard commissioned, warrant, or petty officer who has been designated by the Captain of the Port Detroit to act on his behalf. The on-scene representative of the Captain of the Port Detroit will be aboard either a Coast Guard or Coast Guard Auxiliary vessel. The Captain of the Port Detroit or his designated on scene representative may be contacted via VHF Channel 16.

The rules in this section shall not apply to vessels participating in the event or to government vessels patrolling the regulated area in the performance of their assigned duties.

This document is issued under authority of 33 CFR 100.35 and 5 U.S.C. 552(a). If the Captain of the Port determines that any of these special local regulations need not be enforced for the full duration stated in this document, he may suspend such enforcement and notify the public of the suspension via a Broadcast Notice to Mariners.

Dated: June 25, 2019.
Jeffrey W. Novak,
Captain, U.S. Coast Guard, Captain of the Port Detroit.

[FR Doc. 2019-13815 Filed 6-27-19; 8:45 am]

BILLING CODE 9110-04-P